COMMISSION ON CIVIL RIGHTS

Agenda and Notice of Public Meeting of the Delaware Advisory Committee; Correction

AGENCY: Commission on Civil Rights.

ACTION: Notice; correction.

SUMMARY: The Commission on Civil Rights published a notice in the Federal Register of February 10, 2017, concerning a meeting of the Delaware Advisory Committee. The notice is to replace the day of the meeting and the call-in information.

FOR FURTHER INFORMATION CONTACT: Ivy Davis, (202) 376-7533.

Correction

In the Federal Register of February 10, 2017, in FR Doc. 2017-02734, on pages 10328-10329, correct the SUMMARY, first paragraph, to read:

Notice is hereby given, pursuant to the provisions of the rules and regulations of the U.S. Commission on Civil Rights (Commission), and the Federal Advisory Committee Act (FACA), that a meeting of the Delaware Advisory Committee to the Commission will convene by conference call at 12:00 p.m. (EST) on Friday, February 24, 2017. The purpose of the meeting is to discuss and vote on a project proposal regarding policing in Delaware's communities of color.

In the Federal Register of February 10, 2017, in FR Doc. 2017-02734, on pages 10328-10329, correct the Public Call Information to read:

Dial: (888) 737-3705, conference call ID: 5272563.

Dated: February 14, 2017.
David Mussatt,
Supervisory Chief, Regional Programs Coordination Unit.

[FR Doc. 2017-03240 Filed 2-16-17; 8:45 am]

BILLING CODE P